DEPARTMENT OF TRANSPORTATION

Federal Aviation Administration

Second Meeting: Special Committee 209, Air Traffic Control Radar Beacon Systems (ATCRBS)Mode S Transponder

AGENCY: Federal Aviation Administration (FAA), DOT.

ACTION: Notice of RTCA Special Committee 209, ATCRBS/Mode S Transponder.

SUMMARY: The FAA is issuing this notice to advise the public of a meeting of RTCA Special Committee 209, Air Traffic Control Radar Beacon Systems (ATCRBS)/Mode S Transponder.

DATES: The meeting will be held May 23, 2006, from 9 a.m.-5 p.m., and May 24, from 9 a.m.-4 p.m.

ADDRESSES: The meeting will be held at L-3/Titan Group, 5218 Atlantic Avenue, 3rd floor, Mays Landing, NJ 08330.

FOR FURTHER INFORMATION CONTACT: RTCA Secretariat, 1828 L Street, NW., Suite 805, Washington, DC 20036; telephone (202) 833-9339; fax (202) 833-9434; Web site http://www.rtca.org. Host Contact: Gary Furr (609) 625-5669; e-mail gary.ctr.furr@faa.gov.

SUPPLEMENTARY INFORMATION: Pursuant to section 10(a)(2) of the Federal Advisory Committee Act (Pub. L. 92-463, 5 U.S.C., Appendix 2), notice is hereby given for a Special Committee 209 meeting. The agenda will include:

• May 23-24:

• Opening Plenary Session (Welcome, Introductions, and Administrative Remarks, Review/Approval of Agenda, Review/Approval of Minutes from Meeting #1).

• Report from Team reviewing the ADLP MOPS, DO-218B.

• Report from Team reworking DO-181C.

• Report from Team reviewing the udpate of Text Procedures.

• Status of coordination with WG-49 on Comparison Data Base.

• Review Status of Action Items.

• Closing Plenary Session (Other Business, Discussion of Agenda for Next Meeting, Date, Place and Time of Future Meeting, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on April 24, 2006.
Francisco Estrada C.,
RTCA Advisory Committee.

[FR Doc. 06-4039 Filed 4-28-06; 8:45 am]

BILLING CODE 4910-13-M